ENVIRONMENTAL PROTECTION AGENCY

40 CFR Part 52

[CA-309-0475a; FRL-7901-9]

Revisions to the California State Implementation Plan, Imperial County Air Pollution Control District and San Joaquin Valley Unified Air Pollution Control District

AGENCY: Environmental Protection Agency (EPA).

ACTION: Direct final rule.

SUMMARY: EPA is taking direct final action to approve revisions to the Imperial County Air Pollution Control District (ICAPCD) and San Joaquin Valley Unified Air Pollution Control District (SJVUAPCD) portions of the California State Implementation Plan (SIP). These revisions concern volatile organic compound (VOC) emissions from aerospace manufacturing and component coating and can and coil coating operations. We are approving local rules that regulate these emission sources under the Clean Air Act as amended in 1990 (CAA or the Act).

DATES: This rule is effective on July 18, 2005, without further notice, unless EPA receives adverse comments by June 20, 2005. If we receive such comments, we will publish a timely withdrawal in the Federal Register to notify the public that this direct final rule will not take effect.

ADDRESSES: Send comments to Andy Steckel, Rulemaking Office Chief (AIR-4), U.S. Environmental Protection Agency, Region IX, 75 Hawthorne Street, San Francisco, CA 94105-3901, or e-mail to steckel.andrew@epa.gov, or submit comments at http://www.regulations.gov.

You can inspect copies of the submitted SIP revisions, EPA's technical support document (TSD), and public comments at our Region IX office during normal business hours by appointment. You may also see copies of the submitted SIP revisions by appointment at the following locations:

Air and Radiation Docket and Information Center, U.S. Environmental Protection Agency, Room B-102, 1301 Constitution Avenue, NW., (Mail Code 6102T), Washington, DC 20460;

California Air Resources Board, Stationary Source Division, Rule Evaluation Section, 1001 “I” Street, Sacramento, CA 95814;

Imperial County Air Pollution Control District, 150 South 9th Street, El Centro, CA 92243; and

San Joaquin Valley Unified Air Pollution Control District, 1990 East Gettysburg Ave., Fresno, CA 93726.

A copy of the rule may also be available via the Internet at http://www.arb.ca.gov/drdb/drdbltxt.htm. Please be advised that this is not an EPA website and may not contain the same version of the rule that was submitted to EPA.

FOR FURTHER INFORMATION CONTACT: Jerald S. Wamsley, EPA Region IX, (415) 947-4111, wamsley.jerry@epa.gov.

SUPPLEMENTARY INFORMATION: Throughout this document, “we,” “us” and “our” refer to EPA.

Table of Contents

I. The State's Submittal

A. What Rules did the State Submit?

B. Are There Other Versions of These Rules?

C. What is the Purpose of the Submitted Rule Revisions?

II. EPA's Evaluation and Action

A. How is EPA Evaluating the Rules?

B. Do the Rules Meet the Evaluation Criteria?

C. EPA Recommendations to Further Improve the Rules

D. Public Comment and Final Action

III. Statutory and Executive Order Reviews

I. The State's Submittal

A. What Rules Did the State Submit?

Table 1 lists the rules we are approving with the dates that they were adopted by the local air agencies and submitted by the California Air Resources Board (CARB).

Table 1.—Submitted Rules
Local agency | Rule No. | Rule title | Adopted | Submitted
ICAPCD | 425 | Aerospace Coating Operations | 05/18/04 | 07/19/04
SJVUAPCD | 4604 | Can and Coil Coating Operations | 01/15/04 | 06/03/04

On June 30, 2004, and August 10, 2004, respectively, EPA found that SJVUAPCD Rule 4604 and ICAPCD Rule 425 met the completeness criteria in 40 CFR part 51 appendix V. These criteria must be met before formal EPA review begins.

B. Are There Other Versions of These Rules?

There is no previous version of ICAPCD Rule 425 in the SIP, although the ICAPCD adopted earlier versions of this rule. On June 26, 2002 (67 FR 42999), EPA reviewed and approved SJVUAPCD Rule 4604 into the SIP. This EPA action concerned the December 20, 2001, version of SJVUAPCD Rule 4604. CARB has made no intervening submittals of SJVUAPCD Rule 4604.

C. What Is the Purpose of the Submitted Rule Revisions?

VOCs help produce ground-level ozone and smog, which harm human health and the environment. Section 110(a) of the CAA requires states to submit regulations that control VOC emissions. ICAPCD Rule 425 is a rule designed to reduce VOC emissions at industrial sites engaged in coating airplanes, space craft and their component parts. Similarly, SJVUAPCD Rule 4604 is a rule designed to reduce VOC emissions at industrial sites engaged in metal can and coil coating operations. VOCs are emitted during the preparation and coating of the aerospace, can, and coil parts, as well as the drying phase of the coating process.

ICAPCD Rule 425 establishes general emission limits in units of grams of Reactive Organic Compound (ROC) per litre (gr/l) of coating, less water and exempt compounds as applied. It also allows the use of add-on emission controls whose combined capture and control efficiency must be 85.5 percent or better and specifies certain operating equipment. ICAPCD's May 18, 2004, adoption and amendments to Rule 425 included the following provisions:

—Purpose and applicability;

—Exemptions from the rule;

—Emission reduction requirements;

—Recordkeeping to demonstrate compliance with the rule; and,

—Test methods for determining compliance with the rule.

SJVUAPCD Rule 4604 establishes general emission limits of VOC per liter of coating less water and exempt compounds as applied. It also allows the use of add-on emission controls with a combined capture/control efficiency of 90 percent. SJVUAPCD's January 15, 2004, amendments to Rule 4604 included the following significant changes to its 2001 SIP-approved version.

The form and content of the rule's quantity exemption is changed from 3 gallons per day to 55 gallons per rolling 12 month year. Also, an exemption concerning Rule 4604 and Rule 201 was deleted and an existing exemption for cleaning solvents used in research and development lab work was moved to Section 4 from elsewhere within the rule.

On February 1, 2006, new VOC limits provide for emission reductions in ten coating categories. A new coating category for Repair Coating was added at 750 grams per liter.

Section 5.2 was added detailing the requirements for an approved emission control system and source testing requirements.

The provisions for Alternative Emission Control Plans was deleted.

Section 6.0, Administrative Requirements was edited for clarity and amendments were added to sections concerning recordkeeping and operation and maintenance plan requirements.

Test methods for transfer efficiency and source testing were added.

These amendments and others are discussed in more detail within the TSD and the SJVUAPCD staff report concerning the Rule 4604 amendments.

Each rules's TSD has more information about the rule.

II. EPA's Evaluation and Action

A. How Is EPA Evaluating the Rules?

Generally, SIP rules must be enforceable (see section 110(a) of the Act), must require Reasonably Available Control Technology (RACT) for major sources in nonattainment areas (see section 182(a)(2)(A)), and must not relax existing requirements (see sections 110(l) and 193). The SJVUAPCD regulates an ozone nonattainment area (see 40 CFR part 81), so Rule 4604 must fulfill RACT. However, the ICAPCD is an ozone transitional area given its lack of past ozone violations and proximity to VOC sources along the US-Mexican border. Our TSD discusses the ICAPCD's classification status and regulatory requirements in more detail.

Guidance and policy documents that we use to help evaluate specific enforceability and RACT requirements consistently include the following:

1. Portions of the proposed post-1987 ozone and carbon monoxide policy that concern RACT, 52 FR 45044, November 24, 1987.

2. “Issues Relating to VOC Regulation Cutpoints, Deficiencies, and Deviations,” EPA, May 25, 1988 (the Bluebook).

3. “Guidance Document for Correcting Common VOC & Other Rule Deficiencies,” EPA Region 9, August 21, 2001 (the Little Bluebook).

4. “Control of Volatile Organic Emissions from Existing Stationary Sources Volume II: Surface Coating of Cans, Coils, Paper, Fabrics, Automobiles, and Light Duty Trucks,” USEPA, May 1977, EPA-450/2-77-008.

5. “Control of Volatile Organic Emissions from Coating Operations at Aerospace Manufacturing and Rework Operations,” USEPA, 1997, EPA-453/R-97-004.

B. Do the Rules Meet the Evaluation Criteria?

We believe these rules are consistent with the relevant policy and guidance regarding enforceability, RACT, and SIP relaxations. On August 8, 2002, EPA proposed a limited approval and limited disapproval of Rule ICAPCD 425 (see 67 FR 50847) concerning the September 14, 1999, version of ICAPCD Rule 425. We did not finalize this proposal. The May 18, 2004, amendments to ICAPCD Rule 425 corrected these deficiencies.

The TSD has more information on our respective evaluations.

C. EPA Recommendations To Further Improve the Rules

We have no recommendations.

D. Public Comment and Final Action

As authorized in section 110(k)(3) of the Act, EPA is fully approving the submitted rules because we believe they fulfill all relevant requirements. We do not think anyone will object to this approval, so we are finalizing it without proposing it in advance. However, in the proposed rules section of this Federal Register, we are simultaneously proposing approval of the same submitted rules. If we receive adverse comments by June 20, 2005, we will publish a timely withdrawal in the Federal Register to notify the public that the direct final approval will not take effect and we will address the comments in a subsequent final action based on the proposal. If we do not receive timely adverse comments, the direct final approval will be effective without further notice on July 18, 2005. This will incorporate these rules into the federally enforceable SIP.

Please note that if EPA receives adverse comment on an amendment, paragraph, or section of this rule and if that provision may be severed from the remainder of the rule, EPA may adopt as final those provisions of the rule that are not the subject of an adverse comment.

III. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by July 18, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: March 25, 2005.
Laura Yoshii,
Acting Regional Administrator, Region IX.

Part 52, Chapter I, Title 40 of the Code of Federal Regulations is amended as follows:

PART 52—[AMENDED]

1. The authority citation for part 52 continues to read as follows:

Authority: 42 U.S.C. 7401 et seq.

Subpart F—California

2. Section 52.220 is amended by adding paragraphs (c)(331)(i)(A)(2) and (c)(332)(i)(A)(3) to read as follows:

§ 52.220 Identification of plan.

* * * * *

(c) * * *

(331) * * *

(i) * * *

(A) * * *

(2) Rule 4604, adopted on April 11, 1991, and amended on January 15, 2004.

* * * * *

(332) * * *

(i) * * *

(A) * * *

(3) Rule 425, adopted on August 5, 1989, and amended on May 18, 2004.

* * * * *

[FR Doc. 05-10010 Filed 5-18-05; 8:45 am]

BILLING CODE 6560-50-P